SECURITIES AND EXCHANGE COMMISSION

Submission for OMB Review; Comment Request

Upon Written Request, Copies Available From: Securities and Exchange Commission, Office of Filings and Information Services, Washington, DC 20549.

Extension

Rule 17a-5(c); SEC File No. 270-199; OMB Control No. 3235-0199

Rule 17a-7; SEC File No. 270-147; OMB Control No. 3235-0131

Notice is hereby given that pursuant to the Paperwork Reduction Act of 1995 (44 U.S.C. 3501 et seq.), the Securities and Exchange Commission (“Commission”) has submitted to the Office of Management and Budget (“OMB”) a request for extension of the previously approved collections of information discussed below.

Rule 17a-5(c) under the Securities Exchange Act of 1934 (“Act”) requires certain broker-dealers who carry customer accounts to provide statements of financial condition to their customers. It is estimated that approximately 659 broker and dealer respondents with approximately 97,600,000 customer accounts incur an average burden of 542,222 hours per year to comply with this rule.

Rule 17a-5(c) does not contain record retention requirements. Compliance with the rule is mandatory. Responses are not confidential.

Rule 17a-7 requires non-resident brokers or dealers registered or applying for registration pursuant to Section 15 of the Act to maintain—in the United States—complete and current copies of books and records required to be maintained under any rule adopted under the Act. Alternatively, Rule 17a-7 provides that the non-resident broker or dealers may sign a written undertaking to furnish the requisite books and records to the Commission upon demand.

There are approximately 72 non-resident brokers and dealers. Based on the Commission's experience in this area, it is estimated that the average amount of time necessary to preserve the books and records as required by Rule 17a-7 is one hour per year. Accordingly, the total burden is 72 hours per year.

There are no individual record retention periods in Rule 17a-7. Compliance with the rule is mandatory. However, non-resident brokers and dealers may opt to provide the records upon request of the Commission rather than store it in the United States.

An agency may not conduct or sponsor, and a person is not required to respond to, a collection of information unless it displays a currently valid control number.

General comments regarding the estimated burden hours should be directed to the following persons: (i) Desk Officer for the Securities and Exchange Commission, Office of Information and Regulatory Affairs, Office of Management and Budget, Room 10102, New Executive Office Building, Washington, DC 20503; and (ii) Michael E. Bartell, Associate Executive Director, Office of Information Technology, Securities and Exchange Commission, 450 Fifth Street, NW., Washington, DC 20549. Comments must be submitted to the Office of Management and Budget within 30 days of this notice.

August 10, 2001.
Jonathan G. Katz,
Secretary.

[FR Doc. 01-20974 Filed 8-20-01; 8:45 am]

BILLING CODE 8010-01-M